ENVIRONMENTAL PROTECTION AGENCY

[EPA-HQ-OGC-2020-0020; FRL11341-01-OMS]

Agency Information Collection Activities; Submission to the Office of Management and Budget for Review and Approval; Comment Request; Confidentiality Rules (Renewal)

AGENCY: Environmental Protection Agency (EPA).

ACTION: Notice.

SUMMARY: The Environmental Protection Agency (EPA) has submitted an information collection request (ICR), Confidentiality Rules (EPA ICR Number 1665.15, OMB Control Number 2020-0003) to the Office of Management and Budget (OMB) for review and approval in accordance with the Paperwork Reduction Act. This is a proposed extension of the ICR, which is currently approved through September 20, 2023. Public comments were previously requested via the Federal Register on January 25, 2023, during a 60-day comment period. This notice allows for an additional 30 days for public comments.

DATES: Comments may be submitted on or before September 15, 2023.

ADDRESSES: Submit your comments, referencing Docket ID Number EPA-HQ-OGC-2020-0020, to EPA online using www.regulations.gov (our preferred method), by email to hq.foia@epa.gov, or by mail to: EPA Docket Center, Environmental Protection Agency, Mail Code 28221T, 1200 Pennsylvania Ave. NW, Washington, DC 20460. EPA's policy is that all comments received will be included in the public docket without change including any personal information provided, unless the comment includes profanity, threats, information claimed to be Confidential Business Information (CBI) or other information whose disclosure is restricted by statute.

Submit written comments and recommendations to OMB for the proposed information collection within 30 days of publication of this notice to www.reginfo.gov/public/do/PRAMain. Find this particular information collection by selecting “Currently under 30-day Review—Open for Public Comments” or by using the search function.

FOR FURTHER INFORMATION CONTACT: Brandon A. Levine, Office of General Counsel, (2310A), Environmental Protection Agency, 1200 Pennsylvania Ave. NW, Washington, DC 20460; telephone number: 202-564-6625; email address: levine.brandon@epa.gov.

SUPPLEMENTARY INFORMATION: This is a proposed extension of the ICR, which is currently approved through September 20, 2023. An agency may not conduct or sponsor and a person is not required to respond to a collection of information unless it displays a currently valid OMB control number.

Public comments were previously requested via the Federal Register on January 25, 2023 during a 60-day comment period (88 FR 4822). This notice allows for an additional 30 days for public comments. Supporting documents, which explain in detail the information that the EPA will be collecting, are available in the public docket for this ICR. The docket can be viewed online at www.regulations.gov or in person at the EPA Docket Center, WJC West, Room 3334, 1301 Constitution Ave. NW, Washington, DC. The telephone number for the Docket Center is 202-566-1744. For additional information about EPA's public docket, visit http://www.epa.gov/dockets.

Abstract: EPA established the requirements set forth in 40 CFR part 2, subpart B, “Confidentiality of Business Information.” The requirements govern CBI claims. The requirements include the handling by the Agency of business information, which is or may be entitled to confidential treatment; requiring business submitters to substantiate CBI claims; and determining whether such information is entitled to confidential treatment for reasons of business confidentiality. This request to renew an existing ICR allows the Agency to continue collecting information the Agency requires to make final determinations regarding whether information claimed as confidential is entitled to confidential treatment under EPA's CBI regulations.

Form numbers: None.

Respondents/affected entities: Any entity submitting information claimed as CBI to EPA.

Respondent's obligation to respond: Required to obtain or retain benefits.

Estimated number of respondents: 225 (per year) (total).

Frequency of response: One-time submission for information claimed as CBI.

Total estimated burden: 3,217.5 hours (per year). Burden is defined at 5 CFR 1320.03(b).

Total estimated cost: $1,287,000 (per year), includes $0 annualized capital or operation & maintenance costs.

Changes in the estimates: There is an increase of 2,465.1 hours in the total estimated respondent burden compared with the ICR currently approved by OMB. This increase is due to a combination of factors. Since the last ICR renewal, the Agency has experienced a modest increase in the number of respondents. Additionally, after consulting with a sample of respondent businesses (or respective outside counsels), EPA determined the average estimated burden for each response has increased compared with the ICR currently approved by OMB. Calculating the burden for responding to a substantiation request letter is fact-specific, and the burden can vary based on the following factors: a respondent's familiarity with recent changes in the applicable law, the volume and complexity of the CBI claims asserted, and/or familiarity with the CBI substantiation request letters and substantiation process. As part of consulting with respondent businesses, EPA received burden estimates ranging from as few as 5 hours to as many as nearly 40 hours to substantiate varying amounts of CBI claims. The average estimated burden across the responses that the Agency received is approximately 14.3 hours per response. The median estimated burden is approximately 10 hours per response. For purposes of this ICR renewal, the Agency calculated the estimated burden using the average.

Courtney Kerwin,
Director, Regulatory Support Division.

[FR Doc. 2023-17572 Filed 8-15-23; 8:45 am]

BILLING CODE 6560-50-P